DEPARTMENT OF AGRICULTURE

Center for Nutrition Policy and Promotion; Agency Information Collection Activities; Proposed Collection; Comment Request—Generic Clearance for Nutrition Education Messages and Materials for the General Public

AGENCY: Center for Nutrition Policy and Promotion, USDA.

ACTION: Notice.

SUMMARY: In accordance with the Paperwork Reduction Act of 1995, this notice invites the general public and other public agencies to comment on a proposed information collection. This notice announces the Center for Nutrition Policy and Promotion's intention to request the Office of Management and Budget approval of the information collection instruments to be used during consumer research. The instruments are designed to identify consumers' understanding of potential nutrition education messages and their reaction to prototype sections of nutrition education materials, including Internet-based materials. The information collected will be used to refine messages and materials to improve usefulness and consumer understanding.

DATES: Written comments on this notice must be submitted on or before February 7, 2003.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information collected; and (d) ways to minimize the burden of the collection of information on those who are to respond, including through the use of appropriate automated, electronic, mechanical, or other technological collection techniques or other forms of information technology. Comments may be sent to Carole Davis, Nutrition Promotion Staff Director, Center for Nutrition Policy and Promotion, U.S. Department of Agriculture, 3101 Park Center Drive, Room 1034, Alexandria, VA 22302.

All responses to this notice will be summarized and included in the request for Office of Management and Budget (OMB) approval. All comments will also become a matter of public record.

FOR FURTHER INFORMATION CONTACT: Requests for additional information should be directed to Carole Davis, 703-305-7600.

SUPPLEMENTARY INFORMATION: Title: Nutrition Education Messages and Materials for the General Public.

OMB Number: To be assigned.

Expiration Date: Not applicable.

Type of Request: New collection of information.

Abstract: The Dietary Guidelines for Americans, issued jointly by the U.S. Departments of Agriculture and Health and Human Services, are the cornerstone of Federal nutrition policy and form the basis for nutrition education efforts of these agencies. The U.S. Department of Agriculture develops and promotes nutrition education materials to help consumers understand and use the Dietary Guidelines. The Center for Nutrition Policy and Promotion is responsible for publication of the bulletin containing the text of the Dietary Guidelines; it also develops additional materials to help consumers understand and use the Guidelines. The increased prevalence of overweight and obesity in the United States has made it even more important to communicate clear and useful nutrition education information related to the Guidelines on food choices, weight, and physical activity. In addition, the Center for Nutrition Policy and Promotion provides food-based guidance for the general public through the Food Guide Pyramid. The Pyramid is an educational tool designed to help consumers implement the Guidelines and eat a nutritious diet. The Food Guide Pyramid is undergoing a broad-based reassessment, and development of updated materials is planned to help communicate Pyramid messages and recommendations.

Educational messages and materials in support of the Dietary Guidelines for Americans and Food Guide Pyramid, including those targeted to preventing obesity, will be developed by the Center for Nutrition Policy and Promotion. These will include:

1. The 2005 editions of the bulletin Nutrition and Your Health: Dietary Guidelines for Americans and the brochure Using the Dietary Guidelines for Americans;

2. An updated Food Guide Pyramid graphical representation, poster, and supportive educational materials;

3. Nutrition education and Internet-based materials to help combat overweight and obesity in America. The initial phase of this campaign will target women 20 to 40 years old, with a special emphasis on low-income women.

The materials for these initiatives will be tested using qualitative consumer research techniques, which may include focus groups, qualitative interviews, and Web-based surveys. Participants in the testing will provide information regarding the clarity, understandability, and acceptability of the messages and materials during the developmental process and during the final product development stage.

Affected Public: Adult Consumers.

Estimated Number of Respondents: 850.

Estimated Time Per Response: 2 hours for focus groups and qualitative interviews, .25 hours for Web-based surveys.

Total Estimated Annual Burden Hours: 1175 hours.

Project | Number of respondents | Estimated hours per respondent | Total estimated time burden
Dietary Guidelines materials | 200 | 2 | 400 hrs.
Food Guide Pyramid materials | 200 | 2 | 400 hrs.
Portion awareness messages | 100 | 2 | 200 hrs.
Portion awareness materials | 300 | .25 | 75 hrs.
Portion awareness interactive | 50 | 2 | 100 hrs.
Total | 850 |  | 1175 hrs.

Dated: November 27, 2002.
Steven Christensen,
Acting Director, Center for Nutrition Policy and Promotion.

[FR Doc. 02-30963 Filed 12-6-02; 8:45 am]

BILLING CODE 3410-30-P